DEPARTMENT OF ENERGY

Federal Energy Regulatory Commission

[Docket No. RP07-320-000]

California Interstate Gas Company; Notice of Technical Conference

April 18, 2007.

Take notice that the Commission will convene a technical conference in the referenced proceeding on Tuesday, May 8, 2007, at 10 a.m. (EDT), in a room to be designated at the offices of the Federal Energy Regulatory Commission, 888 First Street, NE., Washington, DC 20426.

The Commission's March 30, 2007 order ¹ directed that a technical conference be held to address the issues raised by Colorado Interstate Gas Company's (CIG) February 28, 2007 tariff filing to reflect a quarterly adjustment to its lost and unaccounted-for (L&U) and other fuel gas reimbursement percentage.

¹ Colorado Interstate Gas Company, 118 FERC ¶ 61,265 (2007).

Commission Staff and parties will have the opportunity to discuss all of the issues raised by CIG's filing including, but not limited to, technical, engineering and operational issues, CIG's justification and support for inclusion of the costs associated with the gas lost at the Fort Morgan storage field, and issues related to the interpretation and applicability of tariff provisions governing L&U and other fuel gas and liability for losses.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Debbie-Anne Reese at (202) 502-8758 or e-mail Debbie-Anne.Reese@ferc.gov.

Kimberly D. Bose,
Secretary.

[FR Doc. E7-7805 Filed 4-24-07; 8:45 am]

BILLING CODE 6717-01-P